CIVIL RIGHTS COMMISSION

Senior Executive Service: Performance Review Board; Membership

AGENCY: U.S. Commission on Civil Rights.

ACTION: Notice of membership of the USCCR Performance Review Board.

SUMMARY: This notice announces the appointment of the Performance Review Board (PRB) of the United States Commission on Civil Rights. Publication of PRB membership is required by 5 U.S.C. 414(c)(4).

The PRB provides fair and impartial review to the U.S. Commission on Civil Rights' Senior Executive Service performance appraisals and makes recommendations regarding performance ratings and performance awards to the Staff Director, U.S. Commission on Civil Rights for the FY 2004 rating year.

FOR FURTHER INFORMATION CONTACT: Janice Minor, Human Resources Assistant, U.S. Commission on Civil Rights, 624 9th Street, NW., Washington, DC 20425, (202) 376-8364.

Members: Jill M. Crumpacker, Esq., Acting Executive Director, Chief Human Capital Officer, Federal Labor Relations Authority.

Robert A. Rogowsky, PhD., Director of Operations, U.S. International Trade Commission.

Karn Laney-Cummings, Director, Office of Industries, U.S. International Trade Commission.

TinaLouise Martin,
Director, Office of Management, U.S. Commission of Civil Rights.

[FR Doc. 05-19489 Filed 9-28-05; 8:45 am]

BILLING CODE 6335-01-M